NUCLEAR REGULATORY COMMISSION

[NRC-2016-0260]

Memorandum of Understanding Between the U.S. Nuclear Regulatory Commission and the Electric Power Research Institute

AGENCY: Nuclear Regulatory Commission.

ACTION: Memorandum of understanding; renewal.

SUMMARY: The U.S. Nuclear Regulatory Commission (NRC) and the Electric Power Research Institute (EPRI) renewed a Memorandum of Understanding (MOU) supporting cooperative nuclear safety research. Current cooperative research technical areas include spent fuel neutron absorber performance, cable aging, external flooding hazards, digital I&C and human factors, fire risk, long-term operation, nondestructive examination, probabilistic fracture mechanics, primary water stress corrosion cracking, probabilistic risk assessment, seismic risk, and steam generator tube research. The NRC and EPRI first signed an MOU in 1997 to encourage cooperation in nuclear safety research. The MOU renewal extends cooperation between NRC and EPRI from September 30, 2016 to September 30, 2021.

DATES: The MOU was effective September 30, 2016.

ADDRESSES: Please refer to Docket ID NRC-2016-0260 when contacting the NRC about the availability of information regarding this document. You may obtain publicly-available information related to this document using any of the following methods:

• Federal Rulemaking Web site: Go to http://www.regulations.gov and search for Docket ID NRC-2016-0260. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The MOU and technical addenda are available in ADAMS under Accession No. ML16223A495.

• NRC's PDR: You may examine and purchase copies of public documents at the NRC's PDR, Room O1-F21, One White Flint North, 11555 Rockville Pike, Rockville, Maryland 20852.

FOR FURTHER INFORMATION CONTACT: Nicholas DiFrancesco, Office of Nuclear Regulatory Research, U.S. Nuclear Regulatory Commission, Washington, DC 20555-0001; telephone: 301-415-1115, email: Nicholas.DiFrancesco@nrc.gov.

SUPPLEMENTARY INFORMATION: The NRC and EPRI each conduct research on nuclear reactor safety. The NRC's Office of Nuclear Regulatory Research conducts independent research in all areas regulated by the NRC including ongoing and potential safety issues, risk-informed and performance-based regulation, and operating experience analysis. The EPRI is engaged in research and development in the public interest and on behalf of Industry with respect to the production, transmission, distribution, and utilization of electric power including research designed to improve the safety, reliability, and economy of nuclear power plants. While the research efforts of the NRC and EPRI may be conducted for different purposes, the underlying data and the results obtained have common value to both the NRC and EPRI. Accordingly, to conserve resources and to avoid unnecessary duplication of effort, both the NRC and EPRI agreed to cooperate in selected research efforts and to share information and/or costs related to such research whenever such cooperation and cost sharing is appropriate and mutually beneficial.

The MOU is authorized pursuant to Section 31 of the Atomic Energy Act of 1954, as amended, and Section 205 of the Energy Reorganization Act of 1974, as amended. The roles, responsibilities, terms, and conditions of the MOU should not be interpreted in a manner inconsistent with, and shall not supersede, applicable federal laws and regulations, as well as EPRI's status as a 501(c)(3) scientific research organization for the public benefit and the NRC's status as an independent regulatory agency.

The MOU describes the parameters within which cooperative research programs between the NRC and EPRI will be considered and conducted. Individual cooperative research programs are described in addenda to the MOU (“Cooperative Research Programs”).

The MOU was signed by the NRC on September 28, 2016, and by EPRI on September 30, 2016 (ADAMS Accession No. ML16223A497).

Dated at Rockville, Maryland, this 14th day of December, 2016.
For the Nuclear Regulatory Commission.
Edwin M. Hackett,
Acting Director, Office of Nuclear Regulatory Research.

[FR Doc. 2016-30739 Filed 12-20-16; 8:45 am]

BILLING CODE 7590-01-P